DEPARTMENT OF HOUSING AND URBAN DEVELOPMENT

[Docket No. FR-4653-N-03]

Notice of Proposed Information Collection for Public Comment: HUD Mobility-Impaired Tenant Survey

AGENCY: Office of the Assistant Secretary Policy Development and Research, HUD.

ACTION: Notice.

SUMMARY: The proposed information collection requirement described below will be submitted to the Office of Management and Budget (OMB) for review, as required by the Paperwork Reduction Act. The Department is soliciting public comments on the subject proposal.

DATES: Comments Due Date: May 29, 2001.

ADDRESSES: Interested persons are invited to submit comments regarding this proposal. Comments should refer to the proposal by name or OMB control number and be sent to: Reports Liaison Officer, Office of Policy Development and Research, Department of Housing and Urban Development, 451 7th Street, SW, Room 8226, Washington, DC 20410.

FOR FURTHER INFORMATION CONTACT: David E. Chase, Office of Research, Evaluation and Monitoring, Department of Housing and Urban Development, 451 7th Street, SW., Washington, DC 20410; telephone (202) 708-4230, extension 5733 (this is not a toll-free number). Copies of the proposed forms and other available documents to be submitted to OMB may be obtained from Mr. Chase.

SUPPLEMENTARY INFORMATION: The Department will submit the proposed information collection to OMB for review, as required by the Paperwork Reduction Act of 1995 (44 U.S.C. Chapter 35, as amended).

This notice is soliciting comments from members of the public and affected agencies concerning the proposed collection of information to: (1) Evaluate whether the proposed collection of information is necessary for the proper performance of the function of the agency; (2) Evaluate the accuracy of the agency's estimated burden; (3) Enhance the quality, utility, and clarity of the information to be collected; and (4) Minimize the burden of the collection of information on those who are to respond; including through the use of appropriate automated collection techniques or other forms of information technology, e.g., permitting electronic submission of responses.

This Notice also lists the following information:

Title of Proposal: HUD Mobility-Impaired Tenant Survey.

Description of the Need for the Information and Proposed Use: The survey will attempt to obtain information regarding mobility-impaired tenants' opinions about the reasonable accommodation process and the New York City Housing Authority's (NYCHA) effectiveness in communicating with mobility-impaired tenants about the reasonable accommodation process.

Members of Affected Public: Individuals or households.

Estimation of the total number of hours needed to prepare the information collection including number of respondents, frequency of response, and hours of response:

Frequency: Other: Once;

Number of Respondents: 385;

Total Annual Responses: 385;

Total Annual Hours: 130.

Respondent's Obligation: Voluntary.

Status of the proposed information collection: Pending OMB approval.

Authority: Section 3507 of the Paperwork Reduction Act of 1995, 44 U.S.C. Chapter 35, as amended.

Dated: March 15, 2001.
Lawrence L. Thompson,
General Deputy Assistant Secretary for Policy Development and Research.

[FR Doc. 01-7576 Filed 3-27-01; 8:45 am]

BILLING CODE 4210-62-M